DEPARTMENT OF ENERGY

Federal Energy Regulatory Commission

[Project No. 2380-005]

Duke Energy Progress, Inc., Duke Energy Progress, LLC; Notice of Transfer of Exemption

1. By letter filed September 25, 2015, Duke Energy Progress, LLC (Duke Energy) informed the Commission that the exemption from licensing for the Marshall Hydroelectric Project No. 2380, originally issued February 18, 1983,¹ has been transferred to Duke Energy Progress, LLC. The project is located on the French Broad River in Madison County, North Carolina. The transfer of an exemption does not require Commission approval.

¹ 22 FERC ¶ 62,211, Notice of Exemption from Licensing (1983).

2. Duke Energy Progress, LLC is now the exemptee of the Marshall Hydroelectric Project, No. 2380. All correspondence should be forwarded to: Ms. Tami Styer, Project Manager II, Duke Energy Progress, LLC, c/o Duke Energy Water Strategy & Hydro Licensing, 522 South Church Street, Mail Code EC12Y, Charlotte, NC 28202.

Dated: October 23, 2015.
Kimberly D. Bose,
Secretary.

[FR Doc. 2015-27572 Filed 10-28-15; 8:45 am]

BILLING CODE 6717-01-P